DEPARTMENT OF HEALTH AND HUMAN SERVICES

Centers for Medicare & Medicaid Services

[Document Identifier: CMS-10846]

Agency Information Collection Activities: Submission for OMB Review; Comment Request; Correction

AGENCY: Centers for Medicare & Medicaid Services (CMS), HHS.

ACTION: Notice, correction.

SUMMARY: On June 20, 2025, CMS published a notice in the Federal Register that sought comment on a collection of information concerning CMS-10846 (OMB control number 0938-1451) entitled “Medicare Part D Manufacturer Discount Program.” The point of contact information is incorrectly listed in the last sentence within the last paragraph of the notice. This document corrects the error.

FOR FURTHER INFORMATION CONTACT: William N. Parham, III, (410) 786-4669.

SUPPLEMENTARY INFORMATION:

I. Background

In the June 20, 2025, issue of the Federal Register (90 FR 26301), we published a Paperwork Reduction Act notice requesting a 60-day public comment period for the information collection request identified under CMS-10846, OMB control number 0938-1451, and titled “Medicare Part D Manufacturer Discount Program.”

II. Explanation of Error

In the June 20, 2025 (90 FR 26301) notice, the point of contact information is incorrect. The incorrect language is located at the bottom of the left column on page 26302, “contact Maricruz Bonfante at (410-786-5086)” All of the other information contained in the June 20, 2025, notice is correct and remains unchanged. The related public comment period remains in effect and ends August 19, 2025.

III. Correction of Error

In FR Doc. 2025-11324 of June 20, 2025 (90 FR 26301), page 26302, the language at the bottom of the left column “[contact Maricruz Bonfante at (410-786-5086)]”, is corrected to read as follows: (contact Beckie Peyton at (410) 786-1572 or beckie.peyton@cms.hhs.gov.)

William N. Parham, III,
Director, Division of Information Collections and Regulatory Impacts, Office of Strategic Operations and Regulatory Affairs.

[FR Doc. 2025-14525 Filed 7-31-25; 8:45 am]

BILLING CODE 4120-01-P